ENVIRONMENTAL PROTECTION AGENCY

40 CFR Part 52

[EPA-R09-OAR-2019-0432; FRL-10005-66-Region 9]

Air Plan Approval; California; Santa Barbara County Air Pollution Control District; Stationary Source Permits and Exemptions

AGENCY: Environmental Protection Agency (EPA).

ACTION: Final rule.

SUMMARY: The Environmental Protection Agency (EPA) is taking final action to approve revisions to the Santa Barbara County Air Pollution Control District's (SBAPCD or “the District”) portion of the California State Implementation Plan (SIP). These revisions concern the District's New Source Review (NSR) permitting program for new and modified sources of air pollution under section 110(a)(2)(C) of the Clean Air Act (CAA). This action updates the SBAPCD's applicable SIP with current permitting rules.

DATES: These rules are effective on April 23, 2020.

ADDRESSES: The EPA has established a docket for this action under Docket ID No. EPA-R09-OAR-2019-0432. All documents in the docket are listed on the http://www.regulations.gov website. Although listed in the index, some information is not publicly available, e.g., Confidential Business Information (CBI) or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Eugene Chen, EPA Region IX, 75 Hawthorne Street (AIR-3-2), San Francisco, CA 94105. (415) 947-4304, chen.eugene@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On October 24, 2019 (84 FR 56961), the EPA proposed to approve the following rules into the California SIP.

Table 1—Submitted Rules
Rule No. | Rule title | Adopted/ amended date | Submitted date
102 | Definitions | 8/25/2016 | 10/18/2016
105 | Applicability | 8/25/2016 | 10/18/2016
202 | Exemptions to Rule 201 | 8/25/2016 | 10/18/2016
204 | Applications | 8/25/2016 | 10/18/2016
205 | Standards for Granting Permits | 4/17/1997 | 3/10/1998
809 | Federal Minor Source New Source Review | 8/25/2016 | 10/18/2016

Collectively, these submitted rules establish the NSR requirements for minor stationary sources under the SBAPCD's jurisdiction in California. We proposed to approve these rules because we determined they complied with the relevant CAA requirements. Our proposed action contains more information on the submitted rules and our evaluation.

II. Public Comments and EPA Responses

The EPA's proposed action provided a 30-day public comment period. We received two comments during this public comment period. Both comments were supportive of the proposed action, and expressed support for further measures to protect air and water quality. The EPA acknowledges the comments and the support expressed by the commenters.

III. EPA Action

No comments were submitted that change our assessment of the rules as described in our proposed action. Therefore, as authorized in section 110(k)(3) of the Act, the EPA is approving these rules into the California SIP as proposed.

IV. Incorporation by Reference

In this rule, the EPA is finalizing regulatory text that includes incorporation by reference. In accordance with requirements of 1 CFR 51.5, the EPA is finalizing the incorporation by reference of the Santa Barbara County Air Pollution Control District rules described in the amendments to 40 CFR part 52 set forth below. The EPA has made, and will continue to make, these documents available through www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 26, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Air pollution control, Carbon monoxide, Environmental Protection, Incorporation by reference, Intergovernmental relations, Lead, New source review, Nitrogen dioxide, Ozone, Particulate matter, Reporting and recordkeeping requirements, Sulfur dioxide, Volatile organic compounds.

Dated: January 24, 2020.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(51)(xiii)(H) and (I), (c)(186)(i)(E)(2), (c)(254)(i)(C)(8) and (9), (c)(423)(i)(E)(6), and (c)(533) to read as follows:

§ 52.220 Identification of plan—in part.

* * * * *

(c) * * *

(51) * * *

(xiii) * * *

(H) Previously approved on May 5, 1982, in paragraph (c)(51)(xiii)(A) of this section and now deleted with replacement in paragraph (c)(533)(i)(A)(3) of this section, Rule 202, “Exemptions to Rule 201,” revision adopted on August 25, 2016.

(I) Previously approved on May 5, 1982, in paragraph (c)(51)(xiii)(A) of this section and now deleted with replacement in paragraph (c)(254)(i)(C)(8) of this section, Rule 205, “Standards for Granting Permits,” revision adopted April 17, 1997.

* * * * *

(186) * * *

(i) * * *

(E) * * *

(2) Previously approved on June 3, 1999, in paragraph (c)(186)(i)(E)(1) of this section and now deleted with replacement in paragraph (c)(533)(i)(A)(2) of this section, Rule 105, “Applicability,” revision adopted on August 25, 2016.

* * * * *

(254) * * *

(i) * * *

(C) * * *

(8) Rule 205, “Standards for Granting Permits,” revision adopted April 17, 1997.

(9) Previously approved on February 9, 2016, in paragraph (c)(254)(i)(C)(7) of this section and now deleted with replacement in paragraph (c)(533)(i)(A)(4) of this section, Rule 204, “Applications,” revision adopted on August 25, 2016

* * * * *

(423) * * *

(i) * * *

(E) * * *

(6) Previously approved on April 11, 2013, in paragraph (c)(423)(i)(E)(1) of this section and now deleted with replacement in paragraph (c)(533)(i)(A)(1) of this section, Rule 102, “Definitions,” revision adopted on August 25, 2016.

* * * * *

(533) New or amended regulations for the following APCD was submitted on October 18, 2016 by the Governor's designee.

(i) Incorporation by reference. (A) Santa Barbara County Air Pollution Control District.

(1) Rule 102, “Definitions,” revision adopted on August 25, 2016.

(2) Rule 105, “Applicability,” revision adopted on August 25, 2016.

(3) Rule 202, “Exemptions to Rule 201,” revision adopted on August 25, 2016.

(4) Rule 204, “Applications,” revision adopted on August 25, 2016.

(5) Rule 809, “Federal Minor Source New Source Review,” revision adopted on August 25, 2016.

(B) [Reserved]

(ii) [Reserved]

[FR Doc. 2020-05196 Filed 3-23-20; 8:45 am]

BILLING CODE 6560-50-P